DEPARTMENT OF DEFENSE

Department of the Air Force

Air University Board of Visitors; Notice of Meeting

AGENCY: Department of the Air Force, (DoD).

ACTION: Notice of meeting.

SUMMARY: The Air University Board of Visitors will hold an open meeting on 13-16 April 2003, with the first business session beginning at 0830 (five seats available). The purpose of the meeting is to give the board an opportunity to review Air University's educational programs and to present to the Commandant, Secretary of the Air Force and Chief of Staff of the Air Force a report of their findings and recommendations concerning these programs.

DATES: 13-16 April 2003.

ADDRESSES: Commandant's Conference Room, Building 800, Maxwell Air Force Base, Alabama.

FOR FURTHER INFORMATION CONTACT: Dr. Dorothy Reed, Director of Academic Affairs, Air University (334) 953-5159.

Pamela D. Fitzgerald,
Air Force Federal Register Liaison Officer.

[FR Doc. 02-32823 Filed 12-27-02; 8:45 am]

BILLING CODE 5001-05-U